DEPARTMENT OF TRANSPORTATION

Office of the Secretary

[Notice of Order to Show Cause (Order 2005-7-14); Docket OST-2004-19877]

Application of GoJet Airlines, LLC for Certificate Authority

AGENCY: Department of Transportation.

SUMMARY: The Department of Transportation is directing all interested persons to show cause why it should not issue an order finding that GoJet Airlines, LLC is fit, willing, and able, and awarding it a certificate of public convenience and necessity to engage in interstate scheduled air transportation of persons, property and mail.

DATES: Persons wishing to file objections should do so no later than August 29, 2005.

ADDRESSES: Objections and answers to objections should be filed in Docket OST-2004-19877 and addressed to Department of Transportation Dockets, (M-30, Room PL-401), U.S. Department of Transportation, 400 Seventh Street, SW., Washington, DC 20590, and should be served upon the parties listed in Attachment A to the order.

FOR FURTHER INFORMATION CONTACT: Ms. Lauralyn Remo, Air Carrier Fitness Division (X-56, Room 6401), U.S. Department of Transportation, 400 Seventh Street, SW., Washington, DC 20590, (202) 366-9721.

Dated: July 15, 2005.
Karan K. Bhatia,
Assistant Secretary for Aviation and International Affairs.

[FR Doc. 05-14378 Filed 7-20-05; 8:45 am]

BILLING CODE 4910-62-P